DEPARTMENT OF TRANSPORTATION

Federal Railroad Administration

[Docket No. FRA-2017-0002-N-17]

Proposed Agency Information Collection Activities; Comment Request

AGENCY: Federal Railroad Administration (FRA), U.S. Department of Transportation

ACTION: Notice and request for comments.

SUMMARY: Under the Paperwork Reduction Act of 1995 (PRA) and its implementing regulations, FRA seeks approval of proposed information collection activities listed below. Before submitting these information collection requests (ICRs) to the Office of Management and Budget (OMB) for approval, FRA is soliciting public comment on specific aspects of the activities identified in this notice.

DATES: Comments must be received no later than August 29, 2017.

ADDRESSES: Submit written comments on the information collection activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60-days' notice to the public to allow comment on information collection activities before seeking OMB approval of the activities. See 44 U.S.C. 3506(c)(2)(A); 5 CFR 1320.8(d)(1), 1320.10(e)(1), 1320.12(a). Specifically, FRA invites interested parties to comment on the following summary of proposed information collection activities regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public by automated, electronic, mechanical, or other technological collection techniques and other forms of information technology (e.g., permitting electronic submission of responses). See 44 U.S.C. 3506(c)(2)(A); 5 CFR 1320.8(d)(1).

FRA believes soliciting public comment will promote its efforts to reduce the administrative and paperwork burdens associated with the collection of information Federal regulations mandate. In summary, FRA reasons comments received will advance three objectives: (1) Reduce reporting burdens; (2) ensure it organizes information collection requirements in a “user-friendly” format to improve the use of such information; and (3) accurately assess the resources expended to retrieve and produce information requested. See 44 U.S.C. 3501.

Below is a brief summary of currently approved information collection activities FRA will submit for OMB clearance as the PRA requires:

Title: Railroad Operating Rules.

OMB Control Number: 2130-0035.

Abstract: The collection of information is due to regulations in 49 CFR part 217 which require Class I and Class II railroads to file with FRA copies of their operating rules, timetables, and timetable special instructions, and subsequent amendments. The regulations require Class III railroads to retain copies of these documents at their systems headquarters. Also, 49 CFR 220.21(b) prescribes the collection of information by requiring railroads to retain one copy of their current operating rules with respect to radio communications and one copy of each subsequent amendment. Railroads must make these documents available to FRA upon request. Through these rules, FRA learns the condition of operating rules and practices of trains and instructions railroads provide their employees on operating practices.

Form Number(s): N/A.

Affected Public: Businesses.

Respondent Universe: 755 railroads.

Frequency of Submission: On occasion.

Affected Public: Businesses.

Reporting Burden
CFR section | Respondent universe | Total annual responses | Average time per response | Total annual burden hours
217.7—Copy—FRA—Operating rules, timetables, Class I & II RRs | 2 new railroads | 2 submissions | 1 hour | 2 hours.
—Amendments | 55 railroads | 165 amendments | 20 minutes | 55 hours.
—Copy of operating rules/timetables, etc. by Class III | 5 new railroads | 5 submissions | 55 minutes | 5 hours.
—Amendments by Class III Railroads | 704 railroads | 2,013 amendments | 15 minutes | 503 hours.
217.9—Records of Qualification | 755 railroads | 4,732 records | 2 minutes | 158 hours.
—Written Prog. of Operational Tests | 5 new railroads | 5 programs | 9.92 hours | 50 hours.
—Records of Operational Tests/Inspections | 755 railroads | 9,120,000 records | 5 minutes | 760,000 hours.
—Amendments | 55 railroads | 165 amendments | 70 minutes | 193 hours.
—Quarterly Review of Accident/Incident Data/ Prior Op. Tests/Insp | 37 railroads | 148 reviews | 2 hours | 296 hours.
—Designated Officers & Conduct of 6 Mo. Rev | 37 railroads | 37 designations + 74 reviews | 5 seconds + 2 hours | 148 hours.
—Designated Officers & Conduct of Six Month Review by Passenger/ Commuter Railroads | Amtrak + 33 railroads | 34 designations + 68 reviews | 5 seconds + 2 hours | 136 hours.
—Records of Periodic Reviews | 101 railroads | 290 review records | 1 minute | 5 hours.
—Annual Summary on Operational Tests/Insp | 101 railroads | 71 summary records | 61 minutes | 72 hours.
—FRA Disapproval of RR Program of Operational Tests/Insp. & Response by RR | 755 railroads | 5 supporting documents | 1 hour | 5 hours.
—Amended Prog. Docs | 755 railroads | 5 amended documents | 30 minutes | 3 hours.
271.11—Instruction of Program Employees | 755 railroads | 130,000 instr. employees | 8 hours | 1,040,000 hours.
—New RR & Copy of Program of Op. Tests | 5 new railroads | 5 Programs | 8 hours | 40 hours.
—Amendments to Op. Rules Instr. Program | 755 railroads | 110 amendments | 30 minutes | 55 hours.
218.95—Instruction, Training, Examination—Records | 755 railroads | 98,000 records | 5 minutes | 8,167 hours.
—Response to FRA Disapproval of Program | 755 railroads | 5 written/oral submissions | 1 hour | 5 hours.
—Programs Needing Amendment | 755 railroads | 5 amended programs | 30 minutes | 3 hours.
218.97—Employee Copy of Written Procedures | 755 railroads | 4,732 copies | 6 minutes | 473 hours.
—Good Faith Challenges by RR Employees | 98,000 RR Employees | 15 challenges | 10 minutes | 3 hours.
—RR Responses to Empl. Challenge | 15 railroads | 15 responses | 5 minutes | 1 hour.
—Immediate Review of Employee Challenge | 15 railroads | 5 immediate reviews | 30 minutes | 3 hours.
—RR Officer Explanation of Federal Law Protection Against Retaliation | 15 railroads | 5 explanations | 1 minute | .08 hour.
—Documented Protest by RR Employee | 10 railroads | 10 written protests | 15 minutes | 3 hours.
—Copies of Protests | 10 railroads | 10 protest copies | 1 minute | .17 hour.
—Further Reviews | 10 railroads | 3 further reviews | 15 minutes | 1 hour.
—Written Verification Decision to Employee | 10 railroads | 10 verification decisions | 10 minutes | 2 hours.
—Copy of Written Procedures at RR Hdqtr | 755 railroads | 755 copies of procedures | 5 minutes | 63 hours.
—Copy of Verification Decision at RR Headquarters & Division Headquarters | 755 railroads | 20 verification decision copies | 5 minutes | 2 hours.
218.99—Shoving or Pushing Movements
—Operating Rule Modifications | 755 railroads | 32 rule modifications | 1 hour | 32 hours.
—Locomotive Engineer Job Briefing Before Movement | 130,000 RR Employees | 180,000 job briefings | 1 minute | 3,000 hours.
—Point Protection Determinations & Signals/Instructions to Control Movements | 130,000 RR Employees | 87,600,000 determinations + 87,600,000 signals/instructions | 1 minute + 1 minute | 2,920,000 hours.
—Remote Control Movements—Verbal Confirmation | 130,000 RR Employees | 876,000 confirmations | 1 minute | 14,600 hours.
—Remote Control Determinations That Zone Is Not Jointly Occupied/Track Clear | 130,000 RR Employees | 876,000 confirmations | 1 minute | 14,600 hours.
—Dispatcher Authorized Train Movements | 6,000 RR Dispatchers | 30,000 auth. movements | 1 minute | 500 hours.
218.101—Operating Rule Re: Leaving Rolling & On-Track MOW Equipment in the Clear | 755 railroads | 32 amended op. rules | 30 minutes | 16 hours.
218.103—Hand-Operated Switches—RR Operating Rule That Complies w/§ 218.103 | 755 railroads | 32 modified operating rules | 1 hour | 32 hours.
—Specification of Minimum Job Briefing Requirements | 755 railroads | 5 modified op. rules | 30 minutes | 3 hours.
—Employee Operating or Verifying Position of Hand-operated Switches: Job Briefings | 755 railroads | 1,125,000 job briefings | 1 minute | 18,750 hours.
218.105—Additional Requirements for Hand-Operated Main Track Switches—Job Briefing | 755 railroads | 60,000 job briefings | 1 minute | 1,000 hours.
—Roadway Worker Report on Position of Switches to Roadway Worker in Charge (RWIC) or Designated Employee Conveying Information to RWIC | 7704 railroads | 100,000 empl. reports + 100,000 conveyances | 1 minute + 1 minute | 3,334 hours.
—Dispatcher Acknowledgment of Switch Position and Employee Confirmation to Train Dispatcher | 755 railroads | 60,000 acknowledgment + 60,000 confirmations | 30 seconds + 5 seconds | 583 hours.
218.109—Hand-Operated Fixed Derails: Job Briefings | 755 railroads | 562,500 job briefings | 30 seconds | 4,688 hours.

Total Responses: 188,591,125.

Total Estimated Annual Burden: 4,797,590 hours.

Type of Request: Extension with change of a currently approved ICR (extension with change reflects revised estimates for some rule requirements).

Title: Track Safety Standards; Concrete Crossties.

OMB Control Number: 2130-0592.

Abstract: On April 1, 2011, FRA amended the Federal Track Safety Standards to promote the safety of railroad operations over track constructed with concrete crossties. FRA mandated specific requirements for effective concrete crossties, for rail fastening systems connected to concrete crossties, and for automated inspections of track constructed with concrete crossties. FRA uses the information collected under 49 CFR 213.234 to ensure automated track inspections of track constructed with concrete crossties are carried out as specified in the rule to supplement visual inspections by Class I and Class II railroads, intercity passenger railroads, and commuter railroads or small government jurisdictions that serve populations greater than 50,000.

Form Number(s): N/A.

Affected Public: Businesses.

Respondent Universe: 18 railroads

Frequency of Submission: On occasion.

Reporting Burden:

CFR Section | Respondent universe | Total annual responses | Average time per response | Total annual burden hours
213.234—Automated Inspection of Track Constructed with Concrete Crossties: Exception Reports Listing All Exception to § 213.109(d)(4) | 18 Railroads | 75 reports | 8 hours | 600 hours.
—Copies of Exception Report Provided to Designated Person under § 213.234(e)(1) | 18 Railroads | 75 report copies | 12 minutes | 15 hours.
—Field Verification of Exception Reports | 18 Railroads | 75 verification | 2 hours | 150 hours.
—Records of Inspection Data | 18 Railroads | 75 records | 30 minutes | 38 hours.
—Institution of Procedures by Track Owner to Maintain Integrity of Track Data Collected by the Measurement System | 18 Railroads | 18 procedures | 4 hours | 72 hours.
—Training by Track Owner: Annual Training in Handing Rail Seat Deterioration Exceptions to All Persons Designated Fully Qualified under § 213.7 | 18 Railroads | 2,000 trained employees | 2 hours | 4,000 hours.

Total Responses: 2,318

Total Estimated Annual Burden: 4,875 hours

Type of Request: Extension with change of a currently approved ICR (extension with change reflects revised estimates for some rule requirements)

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-13746 Filed 6-29-17; 8:45 am]

BILLING CODE 4910-06-P